CONSUMER PRODUCT SAFETY COMMISSION

[Docket No. CPSC-2021-0020]

Agency Information Collection Activities; Submission for OMB Review; Comment Request; Hazard Warning Communication Survey

AGENCY: Consumer Product Safety Commission.

ACTION: Notice.

SUMMARY: As required by the Paperwork Reduction Act of 1995, the Consumer Product Safety Commission (CPSC or Commission) announces that the Commission has submitted to the Office of Management and Budget (OMB) a request for extension of approval for an information collection on a proposed survey to assess how hazard warnings are communicated to consumers. On July 26, 2021, the CPSC published a notice in the Federal Register announcing the agency's intent to seek approval of this collection of information. The Commission received no comments. Therefore, by publication of this notice, the Commission announces that CPSC has submitted to the OMB a request for extension of approval of this collection of information, without change.

DATES: Submit written or electronic comments on the collection of information by December 8, 2021.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: http://www.regulations.gov, under Docket No. CPSC-2021-0020.

FOR FURTHER INFORMATION CONTACT: Cynthia Gillham, Consumer Product Safety Commission, 4330 East-West Highway, Bethesda, MD 20814; (301) 504-7991, or by email to: cgillham@cpsc.gov.

SUPPLEMENTARY INFORMATION: On July 26, 2021, the Commission published notice of the proposed collection on the hazard warning communication survey. 86 FR 40018. The Commission did not receive any comments. Accordingly, the Commission announces that it has submitted to the OMB a request for approval of this collection, without change.

A. Hazard Warning Communication Survey

CPSC is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that CPSC may conduct research, studies, and investigations on the safety of consumer products, and develop product safety test methods and testing devices.

CPSC proposes to conduct an online survey to gather data on consumer risk perception and response to hazard communications from 5,000 respondents. The study population will be comprised of individuals age 18 and over from across the United States. In this proposed survey, CPSC seeks information about consumer product use, including, but not limited to, the following topics:

• Consumers' beliefs, experiences, and tendencies regarding product safety;

• whether consumers pay attention to instructions that come with products;

• whether consumers read safety information and labels;

• to what extent consumers comply with safety messages;

• how product type influences consumers' attitude and behavior;

• what information resources consumers rely on before buying a product;

• how product safety ranks among other factors consumers consider;

• reasons consumers comply or do not comply with the safety messages; and

• how consumers respond if they encounter a safety recall of the product they own.

CPSC has contracted with Carahsoft/Qualtrics to develop and execute this project for CPSC. Information obtained through this survey is not intended to be considered nationally representative. The panel provider will monitor respondents, and if a particular demographic is trending highly, the panel provider will slow down the sample for that segment and will focus on obtaining responses from others to ensure recruitment for U.S. census-matched survey participants from the Midwest, Northeast, South, and West regions. The panel provider will also monitor respondents to ensure that underserved populations are represented in the sample and that insights are collected from a diverse population.

CPSC intends to use the study findings to develop a better understanding of the mechanisms and types of safety messages that consumers receive, how they respond, and what affects their response. Specifically, responses to the items in this survey will provide CPSC staff with information on whether consumers read and comply with various types of safety information that comes with products they use; the causes of consumer noncompliance with product safety information; whether consumers share product safety information with other users of their products; what sources of information they rely on to decide if a product is safe to use; whether safety is a priority in their purchasing decisions; how they responded to safety notices and recalls in the past; reasons for noncompliance with safety notices and recalls; and if and how the product type affects their risk perception and behaviors. Findings from this survey will provide CPSC with information on ways to increase consumer understanding of, and adherence to, safety messaging and help CPSC develop more effective messaging that will convey critical information about product hazards.

B. Burden Hours

We estimate the number of respondents to the survey to be 5,000. The online survey for the proposed study will take approximately 15 minutes (0.25 hours) to complete. We estimate the total annual burden hours for respondents to be 1,250 hours. The monetized hourly cost is $38.60, as defined by total compensation for all civilian workers, U.S. Bureau of Labor Statistics, Employer Costs for Employee Compensation, as of December 2020. Accordingly, we estimate the total cost burden to be $48,250 (1,250 hours × $38.60). The total cost to the federal government for the contract to design and conduct the proposed survey is $150,978.

Alberta E. Mills,
Secretary, Consumer Product Safety Commission.

[FR Doc. 2021-24358 Filed 11-5-21; 8:45 am]

BILLING CODE P